ENVIRONMENTAL PROTECTION AGENCY

[EPA-HQ-OPPT-2022-0835; FRL-10293-01]

Webinar and Opportunity To Submit Applications for the Assessment of Environmental Performance Standards and Ecolabels for Potential Inclusion in EPA's Recommendations for Federal Purchasing

AGENCY: Environmental Protection Agency (EPA).

ACTION: Notice.

SUMMARY: The Environmental Protection Agency (EPA) is expanding the Recommendations of Specifications, Standards and Ecolabels for Federal Purchasing (Recommendations) and is seeking managers of standards development organizations, ecolabel programs, and associated conformity assessment bodies to apply for potential assessment and inclusion in the Recommendations. Interested applicants should electronically submit responses to the scoping questions. Those considering applying are invited to attend a webinar hosted by the EPA's Environmentally Preferable Purchasing (EPP) Program to learn more and ask questions about the assessment process. Once all applications are received, EPA will issue an estimated timeline for full assessments against Sections I through IV of the Framework for the Assessment of Environmental Performance Standards and Ecolabels for Federal Purchasing (Framework). The number of full assessments that EPA can perform will depend on the number of applicants and available resources.

DATES:

Webinar: The Webinar will be held virtually on November 15, 2022, from 1:00 p.m. to 2:30 p.m. EDT. You must register online at https://www.zoomgov.com/webinar/register/WN_gXXfTIpbS9CLgEQWQHsNKQ in order to receive the webcast meeting link and audio teleconference information. EPA encourages timely registration, but you can register at any time before and up to the start of the meeting. Once you register, you will promptly receive an email with the necessary webcast meeting information.

Applications: On or before January 1, 2023, interested parties must electronically submit by email to epp@epa.gov responses to the scoping questions found at: https://www.epa.gov/greenerproducts/framework-assessment-environmental-performance-standards-and-ecolabels-federal. Do not submit electronically any information you consider to be Confidential Business Information (CBI) or other information whose disclosure is restricted by statute.

Special accommodations: Requests for special accommodations for the Webinar should be submitted on or before November 7, 2022, to allow EPA time to process the requests. For information on access or services for individuals with disabilities, and to request accommodation for a disability, please contact Jenna Larkin, listed under FOR FURTHER INFORMATION CONTACT.

ADDRESSES: EPA has established a docket for this action under docket identification (ID) number EPA-HQ-OPPT-2022-0835 that is available online at https://www.regulations.gov. Additional instructions on visiting the docket, along with more information about dockets generally, is available at https://www.epa.gov/dockets.

FOR FURTHER INFORMATION CONTACT: Jenna Larkin, Environmental Protection Specialist, Environmentally Preferable Purchasing Program (7409M), Office of Chemical Safety and Pollution Prevention, Environmental Protection Agency, 1200 Pennsylvania Ave. NW, Washington, DC 20460-0001; telephone number: (202) 564-3395; email address: larkin.jenna@epa.gov.

SUPPLEMENTARY INFORMATION:

I. Executive Summary

A. Does this action apply to me?

This is directed to the public in general. This notice may be of specific interest to persons who represent standards development organizations, ecolabel programs, and associated conformity assessment bodies that manage product or service environmental performance standards and/or ecolabels that could be considered for use in United States federal sustainable procurement efforts.

B. What action is the Agency taking?

EPA is expanding the Recommendations of Specifications, Standards and Ecolabels for Federal Purchasing. Interested applicants must submit their responses to the scoping questions electronically to epp@epa.gov by January 1, 2023. The scoping questions can be found in the docket or at https://www.epa.gov/greenerproducts/framework-assessment-environmental-performance-standards-and-ecolabels-federal.

C. What is the Agency's authority for taking this action?

This effort directly supports the implementation of several Executive Orders and statutes.

Executive Order 14008, entitled “Tackling the Climate Crisis at Home and Abroad” (86 FR 7619, February 1, 2021), directs the Federal government to lead by example and leverage its buying power to “catalyze private sector investment into, and accelerate the advancement of America's industrial capacity to supply domestic clean energy, buildings, vehicles, and other necessary products and materials”. The expansion of the Recommendations will help to spur this market demand for more sustainable products and services.

Standards and ecolabels included in the Recommendations will also help to meet Executive Order 14030, entitled “Climate-Related Financial Risk” (86 FR 27967, May 20, 2021), which directs the Federal Acquisition Regulatory (FAR) Council to consider amending the FAR to ensure that major procurements minimize the risk of climate change.

The implementing instructions for Executive Order 14057, entitled “Catalyzing Clean Energy Industries and Jobs Through Federal Sustainability” (86 FR 70935, December 13, 2021), directs EPA to consider expanding the Recommendations to facilitate net-zero emissions procurement and other related sustainable purchasing goals. In addition, it directs federal purchasers to prioritize products and services that address multiple environmental impacts. After meeting applicable statutory mandates (BioPreferred, SNAP, CPG, ENERGY STAR/FEMP), agencies are directed to buy products and services that meet one or more of the applicable EPA programs, including those meeting the specifications, standards, and ecolabels included in the Recommendations.

The section 12(d) of the National Technology Transfer and Advancement Act (NTTAA), 15 U.S.C. 272 note, as well as mandates from the White House Office of Management and Budget (OMB) identified as Circular A-119, entitled “Federal Participation in the Development and Use of Voluntary Consensus Standards and in Conformity Assessment Activities”, direct federal agencies to use Voluntary Consensus Standards (VCS) in lieu of government-unique standards as a means to carry out policy and procurement objectives except where inconsistent with applicable law or otherwise impractical.

Section 6604(b)(11) of the Pollution Prevention Act (PPA), 42 U.S.C. 13101 et seq., directs EPA to identify opportunities to use Federal Procurement to encourage pollution prevention.

II. Background

The Infrastructure Investment and Jobs Act (IIJA), Public Law 117-58 (November 15, 2021), invests $100 million in the agency's Pollution Prevention program, including a new grant opportunity focused on encouraging products, purchasing, and/or supply chains that are safer, more sustainable, and environmentally preferable. The Recommendations, along with the standards and ecolabels included in the Recommendations, will be referenced, and utilized in the implementation of these new grants.

In addition, the Inflation Reduction Act (IRA), Public Law 117-169 (August 16, 2022), allocates $350 million to the P2 program to establish a labeling program for lower embodied carbon construction materials and a new grant program to provide technical assistance for reducing, measuring, and reporting the embodied carbon of construction materials and products. To support these efforts via the Recommendations, where appropriate, EPA seeks to understand the current state of private sector standards and ecolabels in addressing embodied carbon and other key sustainable acquisition priorities in the construction sector.

A. What are the recommendations of specifications, standards, and ecolabels for Federal purchasing?

The Recommendations help purchasers easily identify credible and effective environmental performance standards/ecolabels/certifications by product/service category for incorporation into federal procurement (e.g., contracts and e-procurement systems). They currently include over 30 product and service categories and more than 40 private sector environmental performance standards and ecolabels. The Recommendations give preference to multi-attribute/lifecycle-based standards and ecolabels that address key impact areas (aka hotspots) and where product conformance is determined by a competent third-party certification body. Federal purchasers are directed by Executive Order 14057 and the Federal Sustainability Plan to procure products and services meeting the Recommendations to help facilitate net-zero emissions procurement and other sustainability goals.

B. What is the framework for the assessment of environmental performance standards and ecolabels?

The Framework, available at https://www.epa.gov/greenerproducts/framework-assessment-environmental-performance-standards-and-ecolabels-federal, provides a transparent, fair, and consistent approach to evaluate product and service environmental performance standards and ecolabels for inclusion in the EPA's Recommendations. The EPA began developing the Framework (formerly known as the Guidelines) in 2011 via a multi-stakeholder, consensus-based process, including several public comment periods. The Framework was then piloted in 2015-2016 in three product categories: furniture, flooring (includes carpet), and paints/coatings. Based on lessons learned from the pilot, additional minor edits were made to clarify and streamline the criteria within the Framework and make it applicable to services. An updated version of the Framework was announced and posted to the EPA website in February 2022. That announcement also included details about EPA's intentions to use the Framework to expand the Recommendations into additional product and service categories. More details on the Framework development process are available at https://www.epa.gov/greenerproducts/framework-development-overview.

The Framework includes:

• Scoping Questions: Assist EPA in planning and budgeting; confirm eligibility and scope before proceeding with full assessment against applicable sections of the Framework.

The four sections of Assessment Criteria include:

• Section I: Process for Developing the Standard—Assesses the procedures used to develop, maintain, and update an environmental performance standard, including whether a standard is considered a voluntary consensus standard.

• Section II: Environmental Effectiveness of the Standard—Assesses the criteria in the environmental performance standard or ecolabel that support the claim of environmental preferability.

• Section III: Conformity Assessment—Assesses the procedures and practices by which products or services are assessed for conformity to the requirements specified by standards and ecolabeling programs.

• Section IV: Management of Ecolabeling Programs—Assesses the organizational and management practices of an ecolabeling program.

C. What information is EPA considering during review of the applications?

EPA is interested in performing assessments in purchase categories that support federal goals and mandates regarding climate (e.g., net-zero emissions procurement and low embodied carbon construction materials), safer chemicals (e.g., products that do not contain perfluoroalkyl or polyfluoroalkyl substances (PFAS)), and/or other Administration sustainable acquisition priorities. EPA is particularly interested in expanding into the following sectors:

• Building/construction;

• Infrastructure;

• Landscaping;

• Food and cafeteria services;

• Uniforms/clothing;

• Professional services; and

• Laboratories and healthcare.

Additionally, in purchase categories already included in the Recommendations. See current list of purchase categories covered at https://www.epa.gov/greenerproducts/recommendations-specifications-standards-and-ecolabels-federal-purchasing.

III. Application Process

A. How do I apply?

Applicants should familiarize themselves with the Framework for the Assessment of Environmental Performance Standards and Ecolabels found at: https://www.epa.gov/system/files/documents/2022-05/updated-framework_5-2022.pdf. If eligible, applicants should download and complete the scoping questions and electronically submit them to epp@epa.gov by January 1, 2023. The scoping questions can be found within the docket or at: https://www.epa.gov/greenerproducts/framework-assessment-environmental-performance-standards-and-ecolabels-federal. No further responses to Sections I through IV of the Framework are required to be submitted at this time.

B. What to expect after applying?

After the application deadline closes, the EPA will issue an estimated timeline for full assessments against Sections I through IV of the Framework by product/service category within 120 days. For each category being assessed, the EPA will provide further notice and instruction to applicable applicants.

EPA may not perform a full assessment of all standards and/or ecolabels submitted for assessment due to either lack of resources or lack of alignment with Administration priorities. EPA intends for there to be other opportunities to apply for assessment in the future. The timeframe for EPA to complete the assessments will depend on the number of applicants and available resources.

C. What are other ways these assessments will be used?

The General Services Administration (GSA) is partnering with EPA in this effort to better understand the market of building/infrastructure/site project-level standards/ecolabels/certifications so it can provide this information to other agencies. Per section 436(h) of the Energy Independence and Security Act of 2007 (EISA), 42 U.S.C. 17001 et seq., GSA evaluates green building certification systems and provides its findings to the Secretary of Energy who, in consultation with the Department of Defense and GSA, formally identifies the system(s) to be used across the federal government. For more information, please visit https://www.gsa.gov/gbcertificationreview.

IV. Paperwork Reduction Act (PRA)

According to PRA, 44 U.S.C. 3501 et seq., an agency may not conduct or sponsor, and a person is not required to respond to a collection of information that requires OMB approval under the PRA, unless it has been approved by OMB and displays a currently valid OMB control number. The OMB control numbers for EPA's regulations in title 40 of the CFR, after appearing in the Federal Register, are listed in 40 CFR part 9, and included on the related collection instrument or form, as applicable.

The information collection activities and estimated burdens associated with the assessment of environmental performance standards and ecolabels for federal procurement are approved by OMB pursuant to the PRA under OMB Control No. 2070-0199 (EPA ICR No. 2516.04) through September 30, 2025, unless that approval is extended or renewed prior to that date. This action does not impose any new burden or activities requiring additional OMB approval. This program involves voluntary responses as specified under 42 U.S.C 13101 and 15 U.S.C. 3701, and the annual paperwork burden for the collection associated with the full assessment against sections I through IV of the Framework is estimated to average 8.5 hours per response. For additional details, please see the Information Collection Request (ICR) document that is available in the docket.

Send any comments about the accuracy of the burden estimate, and any suggested methods for further minimizing respondent burden, including through the use of automated collection techniques, to the Director, Regulatory Support Division, Office of Mission Support (2822T), Environmental Protection Agency, 1200 Pennsylvania Ave. NW, Washington, DC 20460-0001. Please remember to include the OMB control number in any correspondence, but do not submit any questions to this address.

Authority: 42 U.S.C. 1310.

Dated: October 28, 2022.
Michal Freedhoff,
Assistant Administrator, Office of Chemical Safety and Pollution Prevention.

[FR Doc. 2022-23843 Filed 11-1-22; 8:45 am]

BILLING CODE 6560-50-P